DEPARTMENT OF LABOR

Office of the Secretary

Agency Information Collection Activities; Submission for OMB Review; Comment Request; Employee Retirement Income Security Act Summary Annual Report Requirement; Correction

ACTION: Notice; Correction.

SUMMARY: The Department of Labor published a document in the Federal Register of December 23, 2015, inviting public comments on the Employee Retirement Income Security Act Summary Annual Report Requirement Information Collection Request (80 FR 79934). The document contained an incorrect date.

FOR FURTHER INFORMATION CONTACT: Michel Smyth by telephone at 202-693-4129 (this is not a toll-free number) or by email to DOL_PRA_PUBLIC@dol.gov.

Correction

In the Federal Register of December 23, 2015, in FR Doc. 2015-32304, on page 79934, (80 FR 79934) in the first column, correct the DATES caption to read:

DATES: The OMB will consider all written comments that agency receives on or before January 29, 2016.

Dated: January 20, 2016.
Michel Smyth,
Departmental Clearance Officer.

[FR Doc. 2016-01554 Filed 1-25-16; 8:45 am]

BILLING CODE 4510-29-P